DEPARTMENT OF DEFENSE

Department of the Army

Board of Visitors, United States Military Academy (USMA)

AGENCY: Department of the Army, DoD.

ACTION: Notice; correction.

SUMMARY: The notice of an open meeting scheduled for April 25, 2007 published in the Federal Register on March 13, 2007 (72 FR 11337) has a new meeting location. The meeting will now be held in Room B318, Rayburn House Office Building, Washington, DC.

FOR FURTHER INFORMATION CONTACT: Lieutenant Colonel Shaun T. Wurzbach, United States Military Academy, West Point, NY 10996-5000, (845) 938-4200.

SUPPLEMENTARY INFORMATION: None.

Brenda S. Bowen,
Army Federal Register Liaison Officer.

[FR Doc. 07-1740 Filed 4-6-07; 8:45 am]

BILLING CODE 3710-08-M